DEPARTMENT OF COMMERCE

International Trade Administration

[A-560-812]

Notice of Postponement of Final Antidumping Determination and Extension of Provisional Measures: Certain Hot-Rolled Carbon Steel Flat Products From Indonesia

AGENCY: Import Administration, International Trade Administration, Department of Commerce.

ACTION: Postponement of final antidumping determination and extension of provisional measures.

EFFECTIVE DATE: July 6, 2001.

FOR FURTHER INFORMATION CONTACT: Mark Manning or Ronald Trentham at (202) 482-3936 or (202) 482-6320, respectively; AD/CVD Enforcement, Office 4, Group II, Import Administration, International Trade Administration, U.S. Department of Commerce, 14th Street and Constitution Avenue, NW., Washington, DC 20230.

The Applicable Statute and Regulations

Unless otherwise indicated, all citations to the Tariff Act of 1930 (the Act), as amended, are references to the provisions effective January 1, 1995, the effective date of the amendments made to the Act by the Uruguay Round Agreements Act (URAA). In addition, all citations to the Department of Commerce (the Department) regulations are to 19 CFR Part 351 (April 2000).

Background

On May 3, 2001, the Department issued its affirmative preliminary determination in the antidumping duty investigation of certain hot-rolled carbon steel flat products (HRS) from Indonesia. See Notice of Preliminary Determination of Sales at Less Than Fair Value: Certain Hot-Rolled Carbon Steel Flat Products From Indonesia, 66 FR 22163 (May 3, 2001). This notice stated that we would issue our final determination in this investigation not later than 75 days after the date of the preliminary determination.

Postponement of Final Determination and Extension of Provisional Measures

Section 735(a)(2) of the Act provides that a final determination may be postponed until not later than 135 days after the publication of the preliminary determination if, in the event of an affirmative determination, a request for such postponement is made by exporters who account for a significant proportion of exports of the subject merchandise, or in the event of a negative preliminary determination, a request for such postponement is made by petitioners. The Department's regulations, at 19 CFR 351.210(e)(2), require that requests by respondents for postponement of a final determination be accompanied by a request for extension of provisional measures from a four-month period to not more than six months. On May 25, 2001, PT Krakatau Steel (Krakatau), the respondent in this investigation, requested that the Department postpone its final determination until not later than 135 days after the date of the publication of the preliminary determination in the Federal Register and requested that the Department extend provisional measures to a period not to exceed six months. In accordance with 19 CFR 351.210(b), because (1) our preliminary determination is affirmative, (2) the respondent requesting the postponement accounts for a significant proportion of exports of the subject merchandise, and (3) no compelling reasons for denial exist, we are granting Krakatau's request and are postponing the final determination until not later than 135 days after the publication of the preliminary determination in the Federal Register. Suspension of liquidation will be extended accordingly. See Memorandum from Holly A. Kuga to Bernard T. Carreau, “Postponement of Final Antidumping Determination and Extension of Provisional Measures,” dated concurrently with this notice, which is on file in the Central Records Unit, Room B-099 of the main Commerce building.

This notice is published in accordance with section 735(a)(2) of the Act and 19 CFR 351.210(g).

Dated: June 28, 2001.
Richard W. Moreland,
Acting Assistant Secretary for Import Administration.

[FR Doc. 01-16975 Filed 7-5-01; 8:45 am]

BILLING CODE 3510-DS-P